DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer at (240) 276-0361.

Project: “Talk. They Hear You.” Campaign Evaluation: Case Study (OMB No. 0930-0373)—Extension

The SAMHSA Center for Substance Abuse Prevention (CSAP) is requesting approval from the Office of Management and Budget (OMB) for a replicated data collection, “Talk. They Hear You.” Campaign Evaluation: Case Study (the “case study”). This collection includes three instruments:

1. Parent/Caregiver Pre-test/Post-test Survey

2. Youth Pre-test and Post-test Survey

3. Parent/Caregiver Interview Guide

The case study collection is part of a larger effort to evaluate the impact of the “Talk. They Hear You.” campaign. This evaluation will help determine the extent to which the campaign has been successful in educating parents and caregivers nationwide about effective methods for reducing underage drinking. The campaign is designed to educate and empower parents and caregivers to talk with their children about alcohol and other substances. To prevent initiation of underage drinking and substance use, the campaign targets parents and caregivers of children aged 9-20, with the following specific aims:

1. Increasing parents' awareness of the prevalence and risk of underage drinking and substance use;

2. Equipping parents with the knowledge, skills, and confidence to prevent underage drinking and substance use; and

3. Increasing parents' actions to prevent underage drinking and substance use.

For this evaluation, SAMHSA intends to measure knowledge and attitudes before and after a focused campaign outreach effort in areas that have not previously had significant exposure to the campaign. Participants in the evaluation will be recruited from a middle school community and will include parents/caregivers and students. School administrators and partnering organization(s), such as parent/caregiver organizations and/or local educational partner organizations, will assist in the dissemination of campaign materials and data collection efforts. There will be two sites selected for the case study—one site will serve as the experimental group and the other site will serve as the control group. The experimental group will be exposed to the “Talk. They Hear You.” messages using standard campaign materials and dissemination strategies, which will be coordinated through the school and potentially a local partner organization. The control group will not be intentionally exposed to the campaign materials. The case study will include baseline surveys of parents/caregivers and children of middle school age in both the experimental and control communities, followed by exposure to campaign materials in the experimental community, and post-exposure surveys of parents/caregivers and children in both communities. Additionally, SAMHSA will conduct 30 interviews with parents and caregivers following the post-exposure surveys at the experimental site to obtain more detailed information about the specific impact of the campaign.

Annualized Hourly Burden
Instrument | Total number of respondents | Total responses/ respondent | Total responses | Hours per response | Total hour burden
Pre-test survey for middle school youth | 1,093 | 1 | 1,093 | 0.17 | 185.8
Post-test survey for middle school youth | 1,093 | 1 | 1,093 | 0.17 | 185.8
Pre-test survey for parents and caregivers | 690 | 1 | 690 | 0.17 | 117.3
Post-test survey for parents and caregivers | 690 | 1 | 690 | 0.17 | 117.3
Individual interviews with parents and caregivers | 30 | 1 | 30 | 1 | 30
Total | 1,783 |  | 3,596 |  | 636.2

Written comments and recommendations concerning the proposed information collection should be sent by March 6, 2020 to the SAMHSA Desk Officer at the Office of Information and Regulatory Affairs, Office of Management and Budget (OMB). To ensure timely receipt of comments, and to avoid potential delays in OMB's receipt and processing of mail sent through the U.S. Postal Service, commenters are encouraged to submit their comments to OMB via email to OIRA_Submission@omb.eop.gov. Although commenters are encouraged to send their comments via email, commenters may also fax their comments to (202) 395-7285. Commenters may also mail them to the following address: Office of Management and Budget, Office of Information and Regulatory Affairs, New Executive Office Building, Room 10102, Washington, DC 20503.

Jennifer Wilson,
Budget Analyst.

[FR Doc. 2020-02156 Filed 2-4-20; 8:45 am]

BILLING CODE 4162-20-P